DEPARTMENT OF THE TREASURY

Internal Revenue Service

Publication of the Tier 2 Tax Rates

AGENCY: Internal Revenue Service (IRS), Treasury.

ACTION: Notice.

SUMMARY: Publication of the tier 2 tax rates for calendar year 2018 as required by section 3241(d) of the Internal Revenue Code. Tier 2 taxes on railroad employees, employers, and employee representatives are one source of funding for benefits under the Railroad Retirement Act.

DATES: The tier 2 tax rates for calendar year 2018 apply to compensation paid in calendar year 2018.

FOR FURTHER INFORMATION CONTACT: Kathleen Edmondson, CC:TEGE:EOEG:ET1, Internal Revenue Service, 1111 Constitution Avenue NW., Washington, DC 20224, Telephone Number (202) 317-6798 (not a toll-free number). TIER 2 TAX RATES: The tier 2 tax rate for 2018 under section 3201(b) on employees is 4.9 percent of compensation. The tier 2 tax rate for 2018 under section 3221(b) on employers is 13.1 percent of compensation. The tier 2 tax rate for 2018 under section 3211(b) on employee representatives is 13.1 percent of compensation.

Dated: November 21, 2017.
Victoria A. Judson,
Associate Chief Counsel (Tax Exempt and Government Entities).

[FR Doc. 2017-25741 Filed 11-29-17; 8:45 am]

BILLING CODE 4830-01-P